DEPARTMENT OF DEFENSE

Defense Acquisition Regulations System

Policy on Contractor Profits

AGENCY: Defense Acquisition Regulations System, Department of Defense (DoD).

ACTION: Notice of meeting.

SUMMARY: DoD is hosting a public meeting to obtain the views of experts and interested parties in Government and the private sector regarding the profit guidelines in the Defense Federal Acquisition Regulation Supplement.

DATES: March 20, 2013, from 1:00 p.m.to 3:00 p.m., EST.

ADDRESSES: The public meeting will be held at General Services Administration (GSA), Central Office Auditorium, 1800 F Street NW., Washington, DC 20405. The GSA auditorium is located on the main floor of the building.

FOR FURTHER INFORMATION CONTACT: Ms. Patricia Foley, CPIC/DPAP, at 703-693-1145. Please cite NDAA FY 2013 Profit Policy Public Meeting.

SUPPLEMENTARY INFORMATION: DoD is interested in opening a dialogue with experts and interested parties in Government and the private sector about the requirements of section 804 of the National Defense Authorization Act for Fiscal Year 2013. Section 804, Department of Defense Policy on Contractor Profits, included a requirement for DoD to review its profit policy guidelines in order to identify any modifications to such guidelines that are necessary to ensure an appropriate link between contractor profit and contractor performance. The law also stated that, in conducting the review, the Secretary shall obtain the views of experts and interested parties in Government and the private sector.

Those planning to attend the meeting must FAX the following information to CPIC/DPAP, 703-614-1254, or email to Patricia.Foley@osd.mil by March 7, 2013:

• Company or organization name.

• Names of persons attending and applicable resumes summarizing expertise in this area.

• Identify if desiring to make a presentation; limit to a 10-minute presentation per company or organization.

• Last four digits of the social security number for anyone who is not a Federal Government employee with a Government badge, in order to create an attendee list for secure entry to the GSA building.

• Attendees are encouraged to arrive at least 30 minutes early to accommodate security procedures.

If you wish to make a presentation, please contact Ms. Patricia Foley, and submit a copy of your presentation 5 days prior to the meeting date, to CPIC/DPAP, 3060 Pentagon, Room 5E621, Attn: Patricia Foley, Washington, DC 20301-3060. Telephone: 703-693-1145. Submit electronic materials via email to Patricia.Foley@osd.mil. Please submit presentations only and cite NDAA FY 2013 Profit Policy Public Meeting in all correspondence related to the public meeting. There will be no transcription at the meeting. The submitted presentations will be the only record of the public meeting.

Special accommodations: The public meeting is physically accessible to people with disabilities. Requests for reasonable accommodations, sign language interpretation or other auxiliary aids should be directed to Patricia Foley at 703-693-1145, at least 10 working days prior to the meeting date.

The TTY number for further information is: 1-800-877-8339. When the operator answers the call, let them know the agency is the Department of Defense; the point-of-contact is Patricia Foley at 703-693-1145.

Manuel Quinones,
Editor, Defense Acquisition Regulations System.

[FR Doc. 2013-03575 Filed 2-14-13; 8:45 am]

BILLING CODE 5001-06-P